DEPARTMENT OF TRANSPORTATION

Federal Highway Administration

Notice of Final Federal Agency Actions on the Billings Bypass Project in Montana

AGENCY: Federal Highway Administration (FHWA), U.S. DOT.

ACTION: Notice of limitation on claims for judicial review of actions by FHWA and other Federal agencies.

SUMMARY: This notice announces actions taken by the FHWA that are final within the meaning of 23 U.S.C. 139(l)(1). The actions relate to a proposed highway project, the Billings Bypass Project, located in the northeastern portion of the city of Billings urban area, Yellowstone County, Montana. Those actions grant approvals for the project.

DATES: By this notice, the FHWA is advising the public of final agency actions subject to 23 U.S.C.139(l)(1). A claim seeking judicial review of the Federal agency actions on the highway project will be barred unless the claim is filed on or before June 19, 2015. If this date falls on a Saturday, Sunday, or legal holiday, parties are advised to file their claim no later than the business day preceding this date. If the Federal law that authorizes judicial review of a claim provides a time period of less than 150 days for filing such claim, then that shorter time period still applies.

FOR FURTHER INFORMATION CONTACT: Brian Hasselbach, Statewide Planner, Right of Way and Environmental Programs Manager, Federal Highway Administration—Montana Division, 585 Shepard Way, Suite 2, Helena, MT 59601. Office hours are 7:30 a.m. to 4:30 p.m. (Mountain Standard Time), (406) 441-3908, Brian.Hasselbach@dot.gov.

SUPPLEMENTARY INFORMATION: Notice is hereby given that the FHWA has taken final agency actions by issuing a Record of Decision (ROD) for the Billings Bypass Project. The purpose of the project is to construct a new principal arterial to connect Interstate 90 (I-90) with Old Highway 312. The project is located in the northeastern portion of the city of Billings urban area, Yellowstone County, Montana.

The actions by FHWA on this project, and the laws under which such actions were taken, are described in the March 2014 Final Environmental Impact Statement (FEIS); the July 2014 ROD; and in other documents in the FHWA's administrative record for the project. The FEIS, ROD, and other documents in the FHWA administrative record are available by contacting FHWA. The FEIS and ROD can be viewed and downloaded from the project Web site at http://www.mdt.mt.gov/pubinvolve/eis-ea.shtml.

This notice applies to all Federal agency decisions as of the issuance date of this notice and all laws under which such actions were taken, including but not limited to:

1. General: National Environmental Policy Act (NEPA) [42 U.S.C. 4321-4351]; Federal-Aid Highway Act [23 U.S.C. 109].

2. Air: Clean Air Act, 42 U.S.C. 7401-7671(q) (Transportation Conformity).

3. Land: Section 4(f) of the Department of Transportation Act of 1966 [23 U.S.C. 138 and 49 U.S.C. 303];

4. Wildlife: Endangered Species Act [16 U.S.C. 1531-1544 and Section 1536], Marine Mammal Protection Act [16 U.S.C. 1361], Fish and Wildlife Coordination Act [16 U.S.C. 661-667(d)]; Magnuson-Stevens Fishery Conservation and Management Act of 1976, as amended [16 U.S.C. 1801 et seq.].

5. Historic and Cultural Resources: Section 106 of the National Historic Preservation Act of 1966, as amended [16 U.S.C. 470(f) et seq.].

6. Social and Economic: Civil Rights Act of 1964 [42 U.S.C. 2000(d)-2000(d)(1)].

7. Executive Orders: E.O. 11990 Protection of Wetlands; E.O. 11988 Floodplain Management; E.O. 12898, Federal Actions to Address Environmental Justice in Minority Populations and Low Income Populations; E.O. 13175 Consultation and Coordination with Indian Tribal Governments.

(Catalog of Federal Domestic Assistance Program Number 20.205, Highway Planning and Construction. The regulations implementing Executive Order 12372 regarding intergovernmental consultation on Federal programs and activities apply to this program.)

Authority: 23 U.S.C. 139(l)(1), as amended by Moving Ahead for Progress in the 21st Century Act (MAP-21), Pub. L. 112-141, § 1308, 126 Stat. 405 (2012).

Brian D. Hasselbach,
Statewide Planner, Right of Way and Environmental Programs Manager, Helena, MT.

[FR Doc. 2015-00717 Filed 1-16-15; 8:45 am]

BILLING CODE 4910-22-P